DEPARTMENT OF ENERGY

Environmental Management Advisory Board (EMAB)

AGENCY: Office of Environmental Management (EM), Department of Energy.

ACTION: Notice of renewal.

Pursuant to the Federal Advisory Committee Act, and in accordance with Title 41 of the Code of Federal Regulations, and following consultation with the Committee Management Secretariat, General Services Administration, notice is hereby given that the EMAB will be renewed for a two-year period, beginning January 17, 2020.

The Board provides the Assistant Secretary for EM with information and strategic advice on a broad range of corporate issues affecting the EM program. These corporate issues include, but are not limited to, project management and oversight activities, cost/benefit analyses, program performance, human capital development, and contracts and acquisition strategies. Recommendations to EM on the programmatic resolution of numerous difficult issues will help achieve EM's objective of the safe and efficient cleanup of its contaminated sites.

Additionally, the renewal of the EMAB has been determined to be essential to conduct DOE business and to be in the public interest in connection with the performance of duties imposed on DOE by law and agreement. EMAB will operate in accordance with the provisions of the Federal Advisory Committee Act, and rules and regulations issued in implementation of that Act.

FOR FURTHER INFORMATION CONTACT: David Borak, EMAB Designated Federal Officer, U.S. Department of Energy, 1000 Independence Avenue SW, Washington, DC 20585; Phone: (202) 586-9928; Email: david.borak@em.doe.gov.

Signed in Washington, DC on January 17, 2020.
Rachael J. Beitler,
Acting Committee Management Officer.

[FR Doc. 2020-01155 Filed 1-23-20; 8:45 am]

BILLING CODE 6450-01-P